DEPARTMENT OF THE INTERIOR

Bureau of Land Management

[UTU 78566]

Notice of Proposed Withdrawal and Opportunity for Public Meeting; Utah

AGENCY: Bureau of Land Management, Interior.

ACTION: Notice.

SUMMARY: The Bureau of Reclamation has added 98.40 acres of National Forest System land to their pending withdrawal application for protection, operation, and maintenance of the Trial, Washington, and Lost Lake Dams. On January 31, 2000 a notice was published in the Federal Register (65 FR 4624-4625, FR Doc. 00-1920) that segregated the Washington and Lost Lake lands from location and entry under the United States mining laws until January 30, 2002. This notice segregates an additional 98.40 acres of land associated with Trial Lake Dam from location and entry under the United States mining laws until January 30, 2002. All of the lands remain open to all other uses which may be made of National Forest System lands.

DATES: Comments and requests for a meeting must be received on or before December 28, 2000.

ADDRESSES: Comments and meeting requests should be sent to the Bureau of Reclamation, Area Manager, Provo Area Office, 302 East 1860 South, Provo, Utah 84606-7317.

FOR FURTHER INFORMATION CONTACT: David Krueger, Provo Area Office, 801-379-1083.

SUPPLEMENTARY INFORMATION: On August 14, 2000, the Bureau of Reclamation filed an amendment to their withdrawal application to include the following described National Forest System land:

Salt Lake Meridian

Wasatch National Forest

T. 2 S., R. 9 E.,

Sec. 5, lot 4, and N½NW¼SW¼NW¼;

Sec. 6, lot 1, and N½NE¼SE¼NE¼;

Excepting therefrom a cabin lot situated in the NE ¼ of Section 6, being more particularly described as follows: Beginning at a point, which lies North, Forty-four Hundred Sixty (4,460.00) feet and West, Three Hundred Sixty-six (366.00) feet from the Southeast Corner of said Section 6; thence West, One Hundred Thirty-four (134.00) feet; thence North, One Hundred Sixty-three (163.00) feet; thence East, One Hundred Thirty-two (132.00) feet; thence along the high water line of Trial Lake, South 02°26′45″ West, Fifty-four and Sixty Hundredths (54.60) feet; thence South 09°20′17″ East, Thirty-four and Fourteen Hundredths (34.14) feet; thence South 09°45′06″ East, Thirty-six and Thirteen Hundredths (36.13) feet; thence South 21°48′53″ West, Thirty-one and Seventy-five Hundredths (31.75) feet; thence South 24°15′26″ East, Ten and Sixty-six Hundredths (10.66) feet; to the point of beginning. Containing 0.50 acre, more or less.

The area described contains 98.4 acres in Summit County.

All persons who wish to submit comments, suggestions, or objections in connection with the proposed withdrawal may present their views in writing, by the date specified above, to the Bureau of Reclamation, Provo Area Office.

Notice is hereby given that an opportunity for a public meeting is afforded in connection with the proposed withdrawal. All interested persons who desire a public meeting for the purpose of being heard on the proposed withdrawal must submit a written request to the Bureau of Reclamation, Provo Area Office, within 90 days from the date of publication of this notice. Upon determination by the authorized officer that a public meeting will be held, a notice of the time and place will be published in the Federal Register at least 30 days before the scheduled date of the meeting.

The application will be processed in accordance with the regulations set forth in 43 CFR 2300.

The land described above is hereby segregated from location and entry under the United States mining laws until January 30, 2002, unless the application is denied or canceled or the withdrawal is approved prior to that date.

Dated: September 1, 2000.
Roger Zortman,
Deputy State Director, Division of Operations.

[FR Doc. 00-25030 Filed 9-28-00; 8:45 am]

BILLING CODE 4310-MN-P